ENVIRONMENTAL PROTECTION AGENCY

[FRL-8928-2]

EPA Science Advisory Board Staff Office Request for Nominations of Experts To Augment the Environmental Economics Advisory Committee

AGENCY: Environmental Protection Agency (EPA).

ACTION: Notice.

SUMMARY: The SAB Staff Office is requesting the nomination of experts to augment the Environmental Economics Advisory Committee (EEAC) to review an EPA white paper on deriving estimates for the value of mortality risk reduction for use in cost-benefit analysis of EPA rules and regulations.

DATES: Nominations should be submitted by July 29, 2009, per instructions below.

FOR FURTHER INFORMATION CONTACT: Any member of the public wishing further information regarding this Request for Nominations may contact Dr. Holly Stallworth, Designated Federal Officer (DFO), SAB Staff Office, by telephone/voice mail at (202) 343-9867; by fax at (202) 233-0643; or via e-mail at Stallworth.holly@epa.gov. General information concerning the EPA Science Advisory Board can be found on the EPA SAB Web site at http://www.epa.gov/sab.

SUPPLEMENTARY INFORMATION:

Background: The U.S. Environmental Protection Agency (EPA) historically has used a value of statistical life (VSL) to express the benefits of mortality risk reductions in monetary terms for use in benefit cost analyses of its rules and regulations. EPA has used a central default value (adjusted for inflation) in its primary analyses since 1999. Since then, EPA's National Center for Environmental Economics (NCEE) has sought advice from the SAB Environmental Economics Advisory Committee (SAB-EEAC) on various approaches to deriving VSL, including the use of meta analysis and appropriate methodologies for valuing life extensions of different lengths. EPA is now preparing a white paper which proposes a revision of the VSL based on recent literature as well as historical advice from the EEAC. NCEE has requested an SAB peer review of the white paper, which will include a description of the approach used for deriving estimates for mortality risk valuation, a list of selection criteria detailing how the Agency selected studies for inclusion in the analysis, and the VSL that results from the revised approach. Background information on the use of VSL in EPA analyses may be found at http://yosemite.epa.gov/ee/epa/eed.nsf/webpages/Mortality%20Risk%20Valuation.html.

The SAB was established by 42 U.S.C. 4365 to provide independent scientific and technical advice, consultation and recommendations to the EPA Administrator on the technical basis for Agency positions and regulations. In response to NCEE's request, the SAB Staff Office will augment the SAB Environmental Economics Advisory Committee (EEAC) with additional experts to review EPA's draft paper on VSL. The current membership of the EEAC may be found at http://yosemite.epa.gov/sab/sabpeople.nsf/WebCommitteesSubcommittees/Environmental%20Economics%20Advisory%20Committee. The augmented EEAC will comply with the provisions of the Federal Advisory Committee Act (FACA) and all appropriate EPA and SAB procedural policies. Upon completion, the panel's report will be submitted to the chartered SAB for final approval for transmittal to the EPA Administrator.

Request for Nominations: The SAB Staff Office is requesting nominations of nationally recognized experts with expertise in the valuation of mortality risk reduction, including the use of stated preference and revealed preference (i.e., hedonic wage) methods for estimating the value of mortality risk reductions. In addition, we also seek nominations of nationally recognized individuals with expertise in meta-analytic techniques.

Process and Deadline for Submitting Nominations: Any interested person or organization may nominate qualified individuals for possible service on the augmented EEAC in the areas of expertise described above. Nominations should be submitted in electronic format (which is preferred over hard copy) following the instructions for “Nominating Experts to Advisory Panels and Ad Hoc Committees Being Formed” provided on the SAB Web site. The form can be accessed through the “Nomination of Experts” link on the blue navigational bar on the SAB Web site at http://www.epa.gov/sab. To receive full consideration, nominations should include all of the information requested.

EPA's SAB Staff Office requests contact information about the person making the nomination; contact information about the nominee; the disciplinary and specific areas of expertise of the nominee; the nominee's curriculum vitae; sources of recent grant and/or contract support; and a biographical sketch of the nominee indicating current position, educational background, research activities, and recent service on other national advisory committees or national professional organizations.

Persons having questions about the nomination procedures, or who are unable to submit nominations through the SAB Web site, should contact Dr. Holly Stallworth, DFO, as indicated above in this notice. Nominations should be submitted in time to arrive no later than July 29, 2009.

The EPA SAB Staff Office will acknowledge receipt of nominations. The names and biosketches of qualified nominees identified by respondents to the Federal Register notice and additional experts identified by the SAB Staff will be posted on the EPA SAB Web site at http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the augmented EEAC, the SAB Staff Office will consider public comments on the “Short List” of candidates, information provided by the candidates themselves, and background information independently gathered by the SAB Staff Office. Selection criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: July 1, 2009.
Anthony F. Maciorowski,
Deputy Director, EPA Science Advisory Board Staff Office.

[FR Doc. E9-16131 Filed 7-7-09; 8:45 am]

BILLING CODE 6560-50-P